DEPARTMENT OF COMMERCE

International Trade Administration

[A-201-853]

Standard Steel Welded Wire Mesh From Mexico: Postponement of Preliminary Determination in the Less-Than-Fair-Value Investigation

AGENCY: Enforcement and Compliance, International Trade Administration, Department of Commerce.

DATES: Applicable November 18, 2020.

FOR FURTHER INFORMATION CONTACT: Alice Maldonado at (202) 482-4682 or Melissa Kinter at (202) 482-1413, AD/CVD Operations, Office II, Enforcement and Compliance, International Trade Administration, U.S. Department of Commerce, 1401 Constitution Avenue NW, Washington, DC 20230.

SUPPLEMENTARY INFORMATION:

Background

On July 20, 2020, the Department of Commerce (Commerce) initiated a less-than-fair-value (LTFV) investigation of imports of standard steel welded wire mesh (wire mesh) from Mexico.¹ Currently, the preliminary determination is due no later than December 7, 2020.

¹ See Standard Steel Welded Wire Mesh from Mexico: Initiation of Less-Than-Fair-Value Investigation, 85 FR 45167 (July 20, 2020) (Initiation Notice).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are Insteel Industries, Inc.; Mid South Wire Company; National Wire LLC; Oklahoma Steel & Wire Co.; and Wire Mesh Corp.

On November 2, 2020, the petitioners submitted a timely request that Commerce postpone the preliminary determination in the LTFV investigation.³ The petitioners stated that their requested postponement “will permit the agency to issue supplemental questionnaires to Aceromex, S.A. de C.V. (Aceromex) to clarify its initial responses and to accurately determine the magnitude of dumping that occurred during the period of investigation.” ⁴

³ See Petitioners' Letter, “Standard Steel Welded Wire Mesh from Mexico—Petitioners' Request to Postpone Preliminary Determinations,” dated November 2, 2020.

⁴ Id. at 2.

For the reasons stated above and because there are no compelling reasons to deny the request, Commerce, in accordance with section 733(c)(1)(A) of the Act, is postponing the deadline for the preliminary determination by 50 days (i.e., 190 days after the date on which this investigation was initiated). As a result, Commerce will issue its preliminary determination no later than January 26, 2021. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: November 12, 2020.
Jeffrey I. Kessler,
Assistant Secretary for Enforcement and Compliance.

[FR Doc. 2020-25448 Filed 11-17-20; 8:45 am]

BILLING CODE 3510-DS-P